DEPARTMENT OF COMMERCE

National Oceanic and Atmospheric Administration

Federal Consistency Appeal by Millennium Pipeline Company From an Objection by the New York Department of State

AGENCY: National Oceanic and Atmospheric Administration (NOAA) Department of Commerce (Commerce).

ACTION: Reopening public comment period.

SUMMARY: This notice reopens the period for the public to comment on the administrative appeal filed with the Department of Commerce by the Millennium Pipeline Company (Consistency Appeal of Millennium Pipeline Company, L.P.).

DATES: Public comments on the appeal must be received by January 8, 2003.

ADDRESSES: Comments may be sent by mail to the Office of the General Counsel for Ocean Services, National Oceanic and Atmospheric Administration, U.S. Department of Commerce, 1305 East-West Highway, Silver Spring, MD 20910. Materials from the appeal record will be available at the Internet site http://www.ogc.doc.gov/czma.htm and at the Office of the General Counsel for Ocean Services.

FOR ADDITIONAL INFORMATION CONTACT: Branden Blum, Senior Counselor, Office of the General Counsel for Ocean Services, via e-mail at gcos.inquiries@noaa.gov, or at (301) 713-2967, extension 186.

SUPPLEMENTARY INFORMATION: The Millennium Pipeline Company filed an administrative appeal with the Department of Commerce, pursuant to the Coastal Zone Management Act of 1972, as amended, asking that the Secretary of Commerce override the State of New York's objection to Millennium's proposed natural gas pipeline. The pipeline would extend from the Canadian border in Lake Erie and cross the Hudson River, affecting the natural resources or land and water uses of New York's coastal zone.

On September 9, 2002, NOAA published a notice in the Federal Register inviting the public to comment on any of the issues that the Secretary may consider in deciding the appeal. The deadline for submitting comments was December 2, 2002.

NOAA has been requested to provide additional time to allow for adequate comment on the issues raised within the appeal. The State of New York submitted its brief and supporting materials on October 16, 2002; additional materials and briefs were submitted by three amici on October 23, 2002. In response to the public requests, and in recognition of the complex issues and information reflected in these and other filings, NOAA is reopening the public comment period and will accept comments through January 8, 2003. Comments received after the end of the initial comment period on December 2, 2002, but before publication of this notice will be considered to be timely filed.

Written comments may be submitted by e-mail to millennium.comments@noaa.gov or forwarded via mail to the Office of the General Counsel for Ocean Services. Comments must be received by January 8, 2003. Comments will be made available to the parties; they are also expected to be posted on the Department of Commerce Web site at http://www.ogc.doc.gov/czma.htm.

[Federal Domestic Assistance Catalog No. 11.419 Coastal Zone Management Program Assistance.]
Dated: November 26, 2002.
James R. Walpole,
General Counsel.

[FR Doc. 02-30743 Filed 12-03-02; 8:45 am]

BILLING CODE 3510-08-M